DEPARTMENT OF DEFENSE

Office of the Secretary

Renewal of Department of Defense Federal Advisory Committees

AGENCY: Department of Defense (DoD).

ACTION: Renewal of Federal Advisory Committee.

SUMMARY: Under the provisions of the Federal Advisory Committee Act of 1972 (5 U.S.C. Appendix, as amended), the Government in the Sunshine Act of 1976 (5 U.S.C. 552b), and 41 CFR 102-3.50d (agency authority), the DoD gives notice that it is renewing the charter for the Defense Business Board (hereafter referred to as “the Board”).

The Board is a discretionary Federal advisory committee that at the direction of the Secretary of Defense or the Deputy Secretary of Defense, and according to DoD policy shall examine and advise on overall DoD management and governance.

The Board shall report to the Secretary of Defense or the Deputy Secretary of Defense, and the Deputy Secretary of Defense is authorized to act upon the Board's advice and recommendations.

The Board shall be composed of not more than twenty-five members, who possess: (a) A proven track record of sound judgment in leading or governing large, complex private or public sector corporations or organizations; and (b) a wealth of top-level, global business experience in the areas of executive management, corporate governance, audit and finance, human resources, economics, technology and healthcare. Board members shall be appointed by the Secretary of Defense, with annual renewals.

Board members appointed by the Secretary of Defense, who are not full-time or permanent part-time Federal officers or employees, shall be appointed to serve as experts and consultants under the authority of 5 U.S.C. 3109, and to serve as special government employees. Board members, with the approval of the Secretary of Defense, may serve a term of service on the Board of one to four years; however, no member shall serve more than two consecutive terms of service on the Board. Regardless of the individual's approved term of service, all appointments to the Board shall be renewed on an annual basis.

The Secretary of Defense shall select and appoint the Board's chairperson from the total membership. With the exception of travel and per diem for official travel, Board members shall serve without compensation.

Board members are appointed to provide advice on behalf of the government on the basis of their best judgment without representing any particular point of view and in a manner that is free from conflict of interest.

The Chairpersons of the Defense Policy Board and the Defense Science Board may serve as non-voting ex-officio members of the Board. These individuals, when they attend, may provide advice to the Board membership only on the areas governed by their respective Boards and provided the information has been voted on by their membership and it is available to the general public.

The Secretary of Defense or the Deputy Secretary of Defense may appoint former Board members to serve as non-voting Senior Fellows. These individuals are appointed based upon their subject matter expertise and based upon the matters under deliberation by the Board. The Board may utilize non-voting Senior Fellows who, as former members, assist with institutional knowledge and provide continuity of operations.

The Director of the Office of Management and Budget and the Comptroller General of the General Accounting Office shall serve as non-voting observers of the Board. According to DoD policy and procedures, the Secretary of Defense may invite or appoint experts or consultants, with special expertise, to assist the Board on an ad hoc basis. These experts and consultants, appointed under the authority of 5 U.S.C. 3109, shall serve as special government employees; however, they shall have no voting rights on the Board.

Non-voting ex-officio members, non-voting senior fellows, non-voting observers and those non-voting experts and consultants appointed by the Secretary of Defense shall not count toward the Board's total membership.

The Department, when necessary, and consistent with the Board's mission and DoD policies and procedures may establish subcommittees, task groups, or working groups deemed necessary to support the Board.

These subcommittees or working groups shall operate under the provisions of the FACA, the Government in the Sunshine Act of 1976 (5 U.S.C. 552b, as amended), other governing Federal statutes and regulations, and governing DoD policies and procedures.

Such subcommittees or task groups shall not work independently of the chartered Board, and shall report all their recommendations and advice to the Board for full deliberation and discussion. Subcommittees have no authority to make decisions on behalf of the chartered Board; nor can any subcommittee or its members update or report directly to the Department of Defense or any Federal officers or employees.

All subcommittee members shall be appointed in the same manner as the Board members; that is, the Secretary of Defense shall appoint subcommittee members even if the member in question is already a Board member. Subcommittee members, with the approval of the Secretary of Defense, may serve a term of service on the subcommittee of one to four years; however, no member shall serve more than two consecutive terms of service on the subcommittee. Subcommittee members, if not full-time or part-time government employees, shall be appointed to serve as experts and consultants under the authority of 5 U.S.C. 3109, and to serve as special government employees, whose appointments must be renewed on an annual basis. With the exception of travel and per diem for official travel, subcommittee members shall serve without compensation.

FOR FURTHER INFORMATION CONTACT: Jim Freeman, Acting Advisory Committee Management Officer for the Department of Defense, (703) 692-5952.

SUPPLEMENTARY INFORMATION: The Board shall meet at the call of the Board's Designated Federal Officer, in consultation with the Chairperson. The estimated number of Board meetings is four per year.

The Board's Designated Federal Officer, pursuant to DoD policy, shall be a full-time or permanent part-time DoD employee, and shall be appointed in accordance with governing DoD policies and procedures.

The Board's Designated Federal Officer is required to be in attendance at all Board and subcommittee meetings for the entire duration of each and every meeting. However, in the absence of the Board's Designated Federal Officer, an Alternate Designated Federal Officer, duly appointed to the Board according to DoD policies and procedures, shall attend the entire duration of the Board or subcommittee meetings.

The Designated Federal Officer, or the Alternate Designated Federal Officer, shall call all of the Board's and subcommittee's meetings, prepare and approve all meeting agendas, and adjourn any meeting, when the Designated Federal Officer, or the Alternated Designated Federal Officer, determines adjournment to be in the public's interest or required by governing regulations or DoD policies/procedures.

Pursuant to 41 CFR 102-3.105(j) and 102-3.140, the public or interested organizations may submit written statements to the Defense Business Board's membership about the Board's mission and functions. Written statements may be submitted at any time or in response to the stated agenda of planned meeting of Defense Business Board.

All written statements shall be submitted to the Designated Federal Officer for the Defense Business Board, and this individual will ensure that the written statements are provided to the membership for their consideration. Contact information for the Defense Business Board Designated Federal Officer can be obtained from the GSA's FACA Database— https://www.fido.gov/facadatabase/public.asp.

The Designated Federal Officer, pursuant to 41 CFR 102-3.150, will announce planned meetings of the Defense Business Board. The Designated Federal Officer, at that time, may provide additional guidance on the submission of written statements that are in response to the stated agenda for the planned meeting in question.

Dated: January 3, 2012.
Aaron Siegel,
Alternate OSD Federal Register Liaison Officer, Department of Defense.

[FR Doc. 2012-58 Filed 1-5-12; 8:45 am]

BILLING CODE 5001-06-P